DEPARTMENT OF COMMERCE

Foreign-Trade Zones Board

[S-02-2016]

Approval of Expanded Subzone Status; Black & Decker (U.S.) Inc., Subzone 243A, Rialto and Fontana, California

On January 14, 2016, the Executive Secretary of the Foreign-Trade Zones (FTZ) Board docketed an application submitted by the City of Victorville, California, grantee of FTZ 243, requesting expanded subzone status subject to the existing activation limit of FTZ, on behalf of Black & Decker (U.S.) Inc., in Rialto and Fontana, California.

The application was processed in accordance with the FTZ Act and Regulations, including notice in the Federal Register inviting public comment (81 FR 3100, January 20, 2016). The FTZ staff examiner reviewed the application and determined that it meets the criteria for approval. Pursuant to the authority delegated to the FTZ Board's Executive Secretary (15 CFR Sec. 400.36(f)), the application to expand Subzone 243A is approved, subject to the FTZ Act and the Board's regulations, including Section 400.13, and further subject to FTZ 243's 2,000-acre activation limit.

Dated: March 3, 2016.
Andrew McGilvray,
Executive Secretary.

[FR Doc. 2016-05288 Filed 3-8-16; 8:45 am]

BILLING CODE 3510-DS-P